NUCLEAR REGULATORY COMMISSION

[NRC-2008-0339]

Notice of Availability of Final Supplemental Environmental Impact Statement for the Nichols Ranch In-situ Recovery Project in Campbell and Johnson Counties, WY; Supplement to the Generic Environmental Impact Statement for In-situ Leach Uranium Milling Facilities

AGENCY: Nuclear Regulatory Commission.

ACTION: Notice of availability.

SUMMARY: Notice is hereby given that the U.S. Nuclear Regulatory Commission (NRC) has published a final Supplemental Environmental Impact Statement (SEIS) to the Generic Environmental Impact Statement (GEIS), for In-situ Leach Uranium Milling Facilities (NUREG-1910, Supplement 2) for the Nichols Ranch In-situ Recovery Project in Campbell and Johnson Counties, Wyoming. By letter dated November 30, 2007, Uranerz Energy Corporation (Uranerz), submitted an application to the NRC for a new source material license for the proposed Nichols Ranch In-situ Uranium Recovery Project, located in the Pumpkin Buttes Uranium Mining District within the Powder River Basin. Uranerz is proposing to recover uranium from the site using an in-situ leach (also known as an in-situ recovery [ISR]) process. In this final SEIS, the NRC staff assessed the environmental impacts from the construction, operation, aquifer restoration, and decommissioning of the proposed Nichols Ranch ISR Project. The proposed Nichols Ranch ISR Project is comprised of two noncontiguous units, the Nichols Ranch Unit and the Hank Unit.

In addition to the proposed action, the NRC staff assessed two alternatives in the final SEIS: the No-Action alternative and an alternative where only the Nichols Ranch Unit would be developed for ISR operations. Under the No-Action alternative, NRC would deny Uranerz's request to construct, operate, conduct aquifer restoration, and decommission an ISR facility at Nichols Ranch. Alternatives that were considered, but were eliminated from detailed analysis, include conventional mining and conventional milling or heap leach processing. However, given the substantial environmental impact from implementing of these alternatives, they were not further considered. The NRC staff also evaluated alternative lixiviants, alternative wastewater disposal options, and an alternative where only the Hank Unit would be developed ISR operations. For reasons discussed in the SEIS, these alternatives were also eliminated from detailed analysis.

As discussed in Section 2.3 of the final SEIS, unless safety issues mandate otherwise, the NRC staff's recommendation to the Commission related to the environmental aspects of the proposed action is that the source material license be issued as requested. This recommendation is based upon: (1) The license application, including the environmental and technical report submitted by Uranerz and the applicant's supplemental letters and responses to the NRC staff's requests for additional information; (2) consultation with Federal, State, Tribal, and local agencies; (3) the NRC staff's independent review; (4) the NRC staff's consideration of comments received on the draft SEIS; and (5) the assessments summarized in this SEIS.

The final SEIS for the Nichols Ranch ISR Project may be accessed on the Internet at http://www.nrc.gov/reading-rm/doc-collections/nuregs/staff/sr1910/s2/. Additionally, the NRC maintains an Agencywide Documents and Management System (ADAMS), which provides text and image files of the NRC's public documents. The SEIS may also be accessed through the NRC's Public Electronic Reading Room on the Internet at: http://www.nrc.gov/reading-rm/adams.html. The final “Environmental Impact Statement for the Nichols Ranch ISR Project in Campbell and Johnson Counties, Wyoming—Supplement to the Generic Environmental Impact Statement for In-situ Leach Uranium Milling Facilities” is available electronically under ADAMS Accession Number ML104330120. If you do not have access to ADAMS or if there is a problem accessing documents located in ADAMS, contact the NRC Public Document Room (PDR) reference staff at 1-800-397-4209, 301-415-4737, or by e-mail pdr.resource@nrc.gov. Information and documents associated with the final SEIS are also available for inspection at the NRC's PDR, NRC's Headquarters Building, 11555 Rockville Pike (first floor), Rockville, Maryland 20852-2738. For those without access to the Internet, paper copies of any electronic documents may be obtained for a fee by contacting the NRC's PDR at 1-800-397-4209. The final SEIS and related documents may also be found at the following public libraries:

Campbell County Public Library, 2101 South 4J Road, Gillette, Wyoming 82718, 307-687-0009.

Johnson County Library, 171 North Adams Avenue, Buffalo, Wyoming 82834, 307-684-5546.

FOR FURTHER INFORMATION CONTACT: Ms. Patricia Swain, Project Manager, Environmental Review Branch-B, Division of Waste Management and Environmental Protection (DWMEP), Office of Federal and State Materials and Environmental Management Programs (FSME), Mail Stop T-8F5, U.S. Nuclear Regulatory Commission, Washington, DC 20555-0001. Telephone: 1 (800) 368-5642, extension 5405; E-mail: Patricia.Swain@nrc.gov. For general or technical information associated with the safety and licensing of uranium milling facilities, please contact Stephen Cohen, Team Lead, Uranium Recovery Licensing Branch, DWMEP, FSME, Mail Stop T-8F5, U.S. Nuclear Regulatory Commission, Washington, DC 20555-0001. Telephone: 1 (800) 368-5642, extension 7182; E-mail: Stephen.Cohen@nrc.gov.

Dated at Rockville, Maryland, this 20th day of January, 2011.
For the Nuclear Regulatory Commission.
Gregory Suber,
Acting Deputy Director, Environmental Protection and Performance Assessment Directorate, Division of Waste Management and Environmental Protection, Office of Federal and State Materials and Environmental Management Programs.

[FR Doc. 2011-1813 Filed 1-27-11; 8:45 am]

BILLING CODE 7590-01-P